DEPARTMENT OF THE TREASURY

Internal Revenue Service

26 CFR Part 1

[REG-114726-04]

RIN 1545-BD23

Distributions From a Pension Plan Under a Phased Retirement Program; Correction

AGENCY: Internal Revenue Service (IRS), Treasury.

ACTION: Correction to notice of proposed rulemaking.

SUMMARY: This document contains corrections to a notice of proposed rulemaking that was published in the Federal Register on November 10, 2004 (69 FR 65108), providing rules permitting distributions to be made from a pension plan under a phased retirement program and set forth requirements for a bona fide phased retirement program.

FOR FURTHER INFORMATION CONTACT: Cathy A. Vohs (202) 622-6090 (not a toll-free number).

SUPPLEMENTARY INFORMATION:

Background

The notice of proposed rulemaking (REG-114726-04) that is the subject of this correction is under section 401(a) of the Internal Revenue Code.

Need for Correction

As published, REG-114726-04 contains errors that may prove to be misleading and are in need of clarification.

Correction of Publication

Accordingly, the publication of the notice of proposed rulemaking (REG-114726-04), that was the subject of FR Doc. 04-24874, is corrected as follows:

1. On page 65111, column 2, in the preamble under the paragraph heading “Explanation of Provisions”, fourth paragraph, line 9, the language, “retirement benefit, commencing a later” is corrected to read “retirement benefit, commencing at a later”.

2. On page 65112, column 1, in the preamble under the paragraph heading “Explanation of Provisions”, first paragraph, line 1, the language, “the continued availability of heath” is corrected to read “the continued availability of health”.

3. On page 65112, column 1, in the preamble under the paragraph heading “Explanation of Provisions”, first paragraph, line 6, the language, “rules relating to heath coverage.” is corrected to read “rules relating to health coverage.”

Cynthia E. Grigsby,
Acting Chief, Publications and Regulations Branch, Legal Processing Division, Associate Chief Counsel (Procedure and Administration).

[FR Doc. 04-28329 Filed 12-27-04; 8:45 am]

BILLING CODE 4830-01-P